ENVIRONMENTAL PROTECTION AGENCY

[FRL-7574-5]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1189.12; Identification Listing and Rulemaking Petitions (Proposed rule for Wastewater Treatment Exemptions); was approved 08/06/2003; in 40 CFR 261.3(a)(2)(iv)(A)-(G); OMB Number 2050-0053; expires 11/30/2004.

EPA ICR No. 0113.08; NESHAP for Mercury; was approved 08/06/2003; in 40 CFR part 61, subpart E; OMB Number 2060-0097; expires 08/31/2006.

EPA ICR No. 2104.01; Brownfields Program—Revitalization Grantee Reporting; was approved 08/14/2003; in 40 CFR parts 30 and 31; OMB Number 2050-0192; expires 08/31/2006.

EPA ICR No. 0597.08; Tolerance petitions for Pesticides on Food/Feed Crops and New Inert Ingredients; was approved 08/14/2003, in 40 CFR 152.50, and 40 CFR parts 160, 163, 177 and 180; OMB Number 2070-0024; expires 08/31/2006.

EPA ICR No. 2107.01; Survey to Determine the Effectiveness of No Discharge Zones (NDZs) for Vessel Sewage and Marine Sanitation Devices; was approved 08/15/2003; in 40 CFR part 140, and 40 CFR parts 140.3, 140.3(a)(1), 140.4, 140.4(a)(b)(c); OMB Number 2040-0254; expires 07/31/2004.

EPA ICR No. 1949.02; National Environmental Performance Track Program; was approved 08/26/2003; OMB Number 2010-0032; expires 08/31/2006.

EPA ICR No. 0795.11; Notification of Chemical Exports—TSCA Section 12(b); was approved 08/25/2003; in 40 CFR part 707, subpart D; OMB Number 2070-0030; expires 08/31/2006.

EPA ICR No. 2092.01; Tribal Operator Certification Program; was approved 07/31/2003; OMB Number 2040-0252; expires 07/31/2006.

EPA ICR No. 2057.01; Eliciting Risk Tradeoffs for Valuing Fatal Cancer Risks; was approved 02/28/2003; OMB No. 2090-0020; expires 02/28/2006.

Dated: September 29, 2003.
Sara Hisel McCoy,
Acting Director, Collection Strategies Division.

[FR Doc. 03-26049 Filed 10-14-03; 8:45 am]

BILLING CODE 6560-50-P